DEPARTMENT OF LABOR

Employment and Training Administration

Agency Information Collection Activities; OMB Approvals; Workforce Innovation and Opportunity Act-Related Information Collection Requests

ACTION: Notice.

SUMMARY: This notice announces Office of Management and Budget (OMB) approval and effective date for the Workforce Innovation and Opportunity Act-related Information Collection Requests (ICRs) pursuant to the Paperwork Reduction Act of 1995 (PRA) (44 U.S.C. 3501-3520).

DATES: The information collections referenced in this notice will take effect on October 18, 2016, the same date as for all other aspects of the Final Rules published August 19, 2016 (81 FR 56071 and 81 FR 55791).

ADDRESSES: A copy of these ICRs with applicable supporting documentation; including a description of the likely respondents, proposed frequency of response, and estimated total burden may be obtained free of charge from the RegInfo.gov Web site at http://www.reginfo.gov/public/do/PRAMain.

On an ongoing basis, ETA welcomes comments on its information collections. Submit comments about these information collections by mail or courier to Walter Parker, ETA PRA Liaison, Office of Management & Administrative Services, Employment & Training Administration, U.S. Department of Labor, Room N-4711, 200 Constitution Avenue NW., Washington, DC 20210; by Fax: 202-693-2726 (this is not a toll-free number); or by email: Parker.Walter@dol.gov.

SUPPLEMENTARY INFORMATION: OMB issued formal Notices of Approval for the information collection requirements under the PRA contained in the Workforce Innovation and Opportunity Act Final Rule and the Workforce Innovation and Opportunity Act; Joint Rule for Unified and Combined State Plans, Performance Accountability, and the One-Stop System Joint Provisions Final Rule published in the Federal Register on August 19, 2016 (81 FR 56071 and 81 FR 55791). The OMB control number and expiration date for OMB authorization for each information collection is reflected in table 1 below.

Table 1—List of OMB Approved ICRs
Title of collection | OMB control No. | Expiration date
State Training Provider Eligibility Collection | 1205-0523 | September 30, 2019.
ETA Workforce Innovation and Opportunity Act Performance Accountability, Information, and Reporting System | 1205-0521 | August 31, 2019.
Work Application and Job Order Recordkeeping | 1205-0001 | September 30, 2019.
Migrant and Seasonal Farmworker Monitoring Report and Complaint/Apparent Violation Form | 1205-0039 | September 30, 2019.
Standard Job Corps Contractor Gathering Information | 1205-0219 | August 31, 2019.
Placement Verification and Follow-up of Job Corps Participants | 1205-0426 | August 31, 2019.
National Dislocated Workers Emergency Grant Application and Reporting Procedures | 1205-0439 | September 30, 2019.
Employment and Training Administration Financial Report Form ETA-9130 | 1205-0461 | September 30, 2019.
Workforce Innovation and Opportunity Act Common Performance Reporting | 1205-0526 | August 31, 2019.
Unified or Combined State Plan and Plan Modifications under the Workforce Innovation and Opportunity Act, Wagner-Peyser WIOA Title I Programs and Vocational Rehabilitation Adult Education | 1205-0522 | September 30, 2019.

Dated: October 17, 2016.
Portia Wu,
Assistant Secretary for Employment and Training, Labor.

[FR Doc. 2016-25585 Filed 10-21-16; 8:45 am]

BILLING CODE 4510-FN-P